SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before September 26, 2025.

ADDRESSES: Send all comments to Jill Ellis, Center Counsel, COVID EIDL Servicing Center, Small Business Administration, Fort Worth, TX 76155.

FOR FURTHER INFORMATION CONTACT: Jill Ellis, Center Counsel, COVID EIDL Servicing Center jill.ellis@sba.gov 817-393-2735, or Shauniece Carter, Interim Agency Clearance Officer, 202-205-6536, Shauniece.carter@sba.gov.

SUPPLEMENTARY INFORMATION: Small Business Administration SBA Form 912 is used to collect basic identifying information needed to make character and eligibility determinations with respect to applicants and borrowers for monetary loan assistance or for participation in SBA programs. The form is being revised to streamline and align with current SBA regulations.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

OMB Control Number: 3245-0178.

Title: Statement of Personal History.

Description of Respondents: Applicants/Principals/Borrowers participating in SBA programs.

Form Number: SBA Form 912.

Total Estimated Annual Responses: 10,000.

Total Estimated Annual Hour Burden: 2,500.

Shauniece Carter,
Interim Agency Clearance Officer.

[FR Doc. 2025-14125 Filed 7-25-25; 8:45 am]

BILLING CODE 8026-09-P